Title 3—

The President

Proclamation 7270 of January 31, 2000

National African American History Month, 2000

By the President of the United States of America

A Proclamation

Each year during National African American History Month, as we explore the history and culture of African Americans, we discover anew a treasure of stories about the triumph of the human spirit, inspiring accounts of everyday people rising above the indignities imposed by prejudice. These stories are not only an important part of African American history, but an essential part of American history.

We are awakened to such stories through the power, beauty, and unflinching witness of poets and writers like Maya Angelou, Gwendolyn Brooks, Paul Laurence Dunbar, Langston Hughes, James Weldon Johnson, Toni Morrison, and Alice Walker. We find them in the lives and voices of Frederick Douglass, Sojourner Truth, Booker T. Washington, and others who, rising above slavery, brutality, and bigotry, became great American champions of liberty, equality, and dignity. We see them written in the achievements of civil rights leaders like Daisy Bates, James Farmer, John Lewis, Martin Luther King, Jr., Thurgood Marshall, Mary Church Terrell, Roy Wilkins, and Whitney Young.

Forty years ago this month, a new chapter in African American history was written. On February 1, 1960, four courageous young men—freshmen at North Carolina Agricultural and Technical College in Greensboro—sat down at a segregated lunch counter in a local store and politely refused to leave until they were served. Their nonviolent action challenged a barrier that, symbolically and practically, had separated black and white Americans for decades and denied equal treatment to African American citizens. The extraordinary bravery and determination of Ezell Blair, Jr., Franklin McCain, Joseph McNeil, and David Richmond galvanized young men and women of conscience across America, setting in motion a series of student sit-ins in more than 50 cities and 9 States. Subjecting themselves to verbal abuse, physical violence, and unjust arrest, thousands of black and white students peacefully demonstrated to end segregation in restaurants, theaters, concert halls, and public transportation and called for equality in housing, health care, and education. Their story of conscience and conviction and their ultimate triumph continue to inspire us today.

The theme of this year's African American History Month is “Heritage and Horizons: The African American Legacy and the Challenges of the 21st Century.” It is a reminder that the new century on which we have just embarked offers us a unique opportunity to write our own chapter in the history of African Americans and of our Nation. We can use this time of extraordinary prosperity and peace to widen the circle of opportunity in America, to recognize that our society's rich diversity is one of our greatest strengths, and to unite around the fundamental values that we all share as Americans. We can teach our children that America's story has been written by men and women of every race and creed and ethnic background. And we can ensure that our laws, our actions, and our words honor the rights and dignity of every human being.

NOW, THEREFORE, I, WILLIAM J. CLINTON, President of the United States of America, by virtue of the authority vested in me by the Constitution and laws of the United States, do hereby proclaim February 2000 as National African American History Month. I call upon public officials, educators, librarians, and all the people of the United States to observe this month with appropriate ceremonies, activities, and programs that raise awareness and appreciation of African American history.

IN WITNESS WHEREOF, I have hereunto set my hand this thirty-first day of January, in the year of our Lord two thousand, and of the Independence of the United States of America the two hundred and twenty-fourth.

wj

[FR Doc. 00-2452

Filed 2-1-00; 10:57 am]

Billing code 3195-01-P